DEPARTMENT OF TRANSPORTATION

Federal Railroad Administration

Notice of Application for Approval of Discontinuance or Modification of a Railroad Signal System

Pursuant to Title 49 Code of Federal Regulations (CFR) Part 235 and 49 U.S.C. 20502(a), the following railroad has petitioned the Federal Railroad Administration (FRA), seeking approval for the discontinuance or modification of the signal system or relief from the requirements of 49 CFR Part 236, as detailed below.

Docket Number FRA-2010-0119

Applicant: CSX Transportation, Inc., Mr. Joseph S. Ivanyo, Chief Engineer, Communications and Signals, 500 Water Street, SC J-350, Jacksonville, Florida 32202.

CSX Transportation, Inc. (CSX) seeks approval of the proposed modification of the traffic control system at Mileposts OWA 63.8 and OWA 63.0 on the W&A Subdivision, Atlanta Division, at Adairsville, Georgia. The modification consists of the removal of Control Points North Halls and South Halls, including the removal of the power-operated switch, switch frog, and turnout, and signals 26LA, 26LC, and 26R, at South Halls (Milepost OWA 63.0); and the conversion of the power-operated switch to a hand-throw switch, and removal of signals 28LA, 28RA, and 28RC, at North Halls (Milepost OWA 63.8). Intermediate Signals 631 and 630 will be installed at Milepost 63.0.

The reason given for the proposed change is that the existing siding is no longer needed for current operations.

Any interested party desiring to protest the granting of an application shall set forth, specifically, the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

All communications concerning this proceeding should be identified by Docket Number FRA-2010-0119, and may be submitted by one of the following methods:

• Web site: http://www.regulations.gov. Follow the instructions for submitting comments on the DOT electronic site;

• Fax: 202-493-2251;

• Mail: Docket Management Facility, U.S. Department of Transportation, 1200 New Jersey Avenue, SE., West Building Ground Floor, Room W12-140, Washington, DC 20590; or

• Hand Delivery: Room W12-140 of the U.S. Department of Transportation, West Building Ground Floor, 1200 New Jersey Avenue, SE., Washington, DC, between 9 a.m. and 5 p.m., Monday through Friday, except Federal holidays.

• Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (65 FR 19477) or at http://www.dot.gov/privacy.html.

Issued in Washington, DC, on July 20, 2010.
Robert C. Lauby,
Deputy Associate Administrator for Regulatory and Legislative Operations.

[FR Doc. 2010-18237 Filed 7-23-10; 8:45 am]

BILLING CODE 4910-06-P